DEPARTMENT OF DEFENSE

Department of the Navy

Meetings of the Naval Research Advisory Committee

AGENCY: Department of the Navy, DoD.

ACTION: Notice of closed meetings.

SUMMARY: The Naval Research Advisory Committee (NRAC) will meet from July 19-23, 2010, and July 26-30, 2010, to discuss materials presented at the NRAC Summer Study. All sessions on Monday, July 19, 2010, and the Executive Sessions led by Panel Chair and Vice Chair from 8 a.m. to 8:30 a.m. on July 20-23, 2010, will be open to the public. The sessions from 8:30 a.m. to 5 p.m. on July 20-23, 2010, and all of the sessions on July 26-30, 2010, will be closed to the public. The closed sessions will be devoted to discussions and technical examination of classified information, For Official Use Only (FOUO) information, and vendor proprietary briefings related to the study: “Status and Future of Naval Research & Development Enterprise.” These closed session discussions will assess the current technical core competencies of the Warfare Centers employed by the Systems Commands (SYSCOMs) and Program Executive Offices (PEOs) (as well as the stewardship provided for those competencies and the technical core competencies that are provided by the Navy University Affiliated Research Centers (UARCs)); will consider the technical quality of the workforce and physical infrastructure; will review proprietary information regarding technology applications and systems under development in the private sector between competing companies; will assess emerging concepts of operations in each of these areas and evaluate appropriate options in such areas as: Personnel, training, R&D funding allocation, technology monitoring, progress assessments, probable time frames for transformation and implementation; and will assess challenges with the utilization and fielding of various technology applications.

DATES: All sessions on Monday, July 19, 2010, and the Executive Sessions led by Panel Chair and Vice Chair from 8 a.m. to 8:30 a.m. on July 20-23, 2010, will be open to the public. The sessions from 8:30 a.m. to 5 p.m. on July 20-23, 2010, and all of the sessions on July 26-30, 2010, will be closed to the public.

Public Access: The NRAC Summer Study will be headquartered in the CLOUD ROOM at 53605 Hull Street, Space and Naval Warfare Systems Center, San Diego, CA 92152-5410. Access instructions for the public:

1. If you are a non-US citizen, you must submit a visit request by letter or fax 619-553-2726 via your embassy to: SPAWARSYSCEN San Diego, CODE 20352 (PL-TS), POC: Jackie Olson, 854, 49275 Electron Dr., San Diego, CA 92152-5435.

Please indicate that you will be attending the open sessions of the Naval Research Advisory Committee (NRAC) Summer Study.

2. If you are a U.S. government employee or an active military service member with a security clearance, please submit a Visit Request via JPAS to SPAWARS; UIC number 660015 or fax it to 619-553-2726. POC is Ms. Jackie Olson, Office 85400, 619-553-2722.

3. If you are a U.S. citizen with no security clearances, you will require an escort at all times while within SPAWAR'S facilities. Please submit a Visit Request via e-mail or fax no later than July 1, 2010, to: Mr. William Ellis, NRAC Program Director, elliswonr@gmail.com; fax: 703-696-4837 or Mr. Miguel Becerril, NRAC Program Manager, mbecerril@jorge.com; fax: 703-696-4837.

All guests must have at least two forms of government issued identification. Guests planning on attending activities indicated above must have submitted their respective Visit Request per the above instructions. If the guest requires an escort, he or she must be present at the SPAWARS Visitor Center no later than 7 a.m. The Visitor Center is located at the entrance to the Space and Naval Warfare Center, 49275 Electron Drive, San Diego, CA. Guests requiring escort will be greeted by a member of the NRAC staff and escorted to the site of the summer study. Escorted guests will be limited to only those areas related to the summer study activities. Escorted guests will be returned to the Visitor Center upon completion of the NRAC activities open to the public.

FOR FURTHER INFORMATION CONTACT: Mr. William H. Ellis, Jr., Program Director, Naval Research Advisory Committee, 875 North Randolph Street, Arlington, VA 22203-1955, 703-696-5775.

SUPPLEMENTARY INFORMATION: Pursuant to the provisions of the Federal Advisory Committee Act, as amended (5 U.S.C. App.), the proprietary information (to include trade secrets and commercial and financial information) and the classified information (to include FOUO and SECRET information) constitute information that is exempt from disclosure to the public. Accordingly, the Secretary of the Navy has determined in writing, in accordance with 5 U.S.C. App. 2, section 10(d), that the public interest requires that the sessions from 8:30 a.m. to 5 p.m. on July 20-23, 2010, and all of the sessions on July 26-30, 2010, be closed to the public because they will deal with the exempted matters listed in 5 U.S.C. section 552b(c)(1) and (4).

Dated: June 25, 2010.
H.E. Higgins,
Lieutenant, Office of the Judge Advocate General, U.S. Navy, Federal Register Liaison Officer.

[FR Doc. 2010-16129 Filed 7-1-10; 8:45 am]

BILLING CODE 3810-FF-P